DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before October 5, 2009. Address written comments to Statutory Import Programs Staff, Room 3720, U.S. Department of Commerce, Washington, DC 20230. Applications may be examined between 8:30 A.M. and 5:00 P.M. at the U.S. Department of Commerce in Room 3720.

Docket Number: 09-048. Applicant: North Dakota State University, 1301 12th Ave. North, Fargo, ND 58102. Instrument: Electron Microscope. Manufacturer: FEI Company, Czech Republic. Intended Use: The instrument will be used to inspect semiconductor devices and micro sensors; study nanoparticles, nanotubes, polymers and composites; and to create micro to nanoscale channels for fluidics research. Justification for Duty-Free Entry: No instruments of same general category are manufactured in the United States. Application accepted by Commissioner of Customs: August 18, 2009.

Docket Number: 09-049. Applicant: Washington State University, 220 French Administration Building, P.O. Box 641020, Pullman, WA 99164. Instrument: Electron Microscope. Manufacturer: FEI Company, Czech Republic. Intended Use: The instrument will be used to inspect semiconductor devices and micro sensors; study nanoparticles, nanotubes, polymers and composites; and to create micro to nanoscale channels for fluidics research. Justification for Duty-Free Entry: No instruments of same general category are manufactured in the United States. Application accepted by Commissioner of Customs: August 18, 2009.

Docket Number: 09-050. Applicant: Stanford University, 450 Serra Mall, Stanford, CA 94305. Instrument: Electron Microscope. Manufacturer: FEI Company, the Netherlands. Intended Use: The instrument will be used for “spectrum imaging” of elemental distributions at the sub-nano level, to gather three-dimensional structural information of nano-sized crystals as well as to measure electrostatic and magnetic fields in a variety of samples. Justification for Duty-Free Entry: No instruments of same general category are manufactured in the United States. Application accepted by Commissioner of Customs: August 18, 2009.

Dated: September 8, 2009.
Christopher Cassel,
Director, IA Subsidies Enforcement Office.

[FR Doc. E9-22049 Filed 9-11-09; 8:45 am]

BILLING CODE 3510-DS-S